DEPARTMENT OF HOMELAND SECURITY

Coast Guard

33 CFR Part 165

[CGD05-06-091]

RIN 1625-AA00

Safety Zones; Fireworks Displays Within the Fifth Coast Guard District

AGENCY: Coast Guard, DHS.

ACTION: Notice of proposed rulemaking.

SUMMARY: The Coast Guard proposes to amend the list of permanent safety zones established for fireworks displays at various locations within the geographic boundary of the Fifth Coast Guard District. This action is necessary to protect the life and property of the maritime public from the hazards posed by fireworks displays. Entry into or movement within these proposed zones during the enforcement periods is prohibited without approval of the appropriate Captain of the Port.

DATES: Comments and related material must reach the Coast Guard on or before December 4, 2006

ADDRESSES: You may mail comments and related material to Commander (dpi), Fifth Coast Guard District, 431 Crawford Street, Portsmouth, Virginia 23704-5004, or hand-deliver them to Room 415 at the same address between 9 a.m. and 2 p.m., Monday through Friday, except Federal holidays, or fax them to (757) 398-6203. The Inspections and Investigations Branch, Fifth Coast Guard District, maintains the public docket for this rulemaking. Comments and material received from the public, as well as documents indicated in this preamble as being available in the docket, will become part of this docket and will be available for inspection or copying at the above address between 9 a.m. and 2 p.m., Monday through Friday, except Federal holidays.

FOR FURTHER INFORMATION CONTACT: Dennis Sens, Project Manager, Inspections and Investigations Branch, at (757) 398-6204.

SUPPLEMENTARY INFORMATION:

Request for Comments

We encourage you to participate in this rulemaking by submitting comments and related material. If you do so, please include your name and address, identify the docket number for this rulemaking (CGD05-06-091), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the address listed under ADDRESSES explaining why one would be beneficial. If we determine that one would aid this rulemaking, we will hold one at a time and place announced by a notice in the Federal Register.

Background and Purpose

The Coast Guard proposes to amend the list of permanent safety zones at 33 CFR 165.506, established for fireworks displays at various locations within the geographic boundary of the Fifth Coast Guard District. Currently there are 34 permanent safety zones established that are enforced for fireworks displays occurring throughout the year that are held on an annual basis and normally in one of these 34 locations. The 34 established permanent safety zone locations are: Patuxent River Solomons Island, MD; Middle River, MD; Northeast River, MD; Potomac River, Charles County, MD; Baltimore Inner Harbor, Patapsco River, MD; Northwest Harbor (Western Section), Patapsco River, MD; Northwest Harbor (East Channel), Patapsco River, MD; Washington Channel, Upper Potomac River, Washington, DC; Dukeharts Channel, Potomac River, MD; Severn River and Spa Creek, Annapolis, MD; Miles River, St. Michaels, MD; Chesapeake Bay, Chesapeake Beach, MD; Choptank River, Cambridge, MD; Chester River, Kent Island Narrows, MD; Atlantic Ocean, Ocean City, MD; Isle of Wight Bay, Ocean City, MD; Assawoman Bay, Fenwick Island, MD; Atlantic Ocean, Rehoboth Beach, DE; Indian River Bay, DE; Little Egg Harbor, Parker Island, NJ; Barnegat Bay, Ocean Township, NJ; Delaware Bay, North Cape May, NJ; Delaware River, Philadelphia, PA; Morehead City Harbor Channel, Morehead City, NC; Green Creek and Smith Creek, Oriental, NC; Pamlico River, Washington, NC; Neuse River, New Bern, NC; Cape Fear River, Southport, NC; Cape Fear River, Wilmington, NC; Upper Potomac River, Alexandria, VA; Potomac River, Prince William County, VA; Chincoteague Channel, Chincoteague, VA; Atlantic Ocean, Virginia Beach, VA; and Elizabeth River, Southern Branch, Norfolk, VA.

The Coast Guard proposes to amend the list of permanent safety zones at 33 CFR 165.506, established for fireworks displays, by adding 15 new locations and modifying 3 previously established locations within the geographic boundary of the Fifth Coast Guard District. This rule will increase the total number of permanent safety zones to 49 locations for fireworks displays within the boundary of the Fifth Coast Guard District.

The 15 new safety zone locations proposed to be added by this rule are: Patapsco River (Middle Branch), Baltimore, MD; Susquehanna River, Havre de Grace, MD; Tred Avon River, Oxford, MD; Delaware River, Essington, PA; Chesapeake Bay, Norfolk, VA; Broad Bay, Virginia Beach, VA; Chickahominy River, Williamsburg, VA; York River, Yorktown, VA; James River, Newport News, VA; Chesapeake Bay, Virginia Beach, VA; York River, West Point, VA; Big Foot Slough, Ocracoke, NC; Pasquotank River, Elizabeth City, NC; Currituck Sound, Corolla, NC; and Middle Sound, Figure Eight Island, NC.

The previously established safety zone locations proposed for modification by this rule are: Potomac River, Charles County, MD; Dukeharts Channel, Potomac River, MD, and Chester River, Kent Island Narrows, MD.

The Coast Guard typically receives numerous applications in these areas for fireworks displays. Previously a temporary safety zone was usually established on an emergency basis for each display. This limited the opportunity for public comment. Establishing permanent safety zones through notice and comment rulemaking provides the public the opportunity to comment on the zone locations, size and length of time the zones will be enforced.

Each year organizations in the Fifth Coast Guard District sponsor fireworks displays in the same general location and time period. Each event uses a barge or an on-shore site as the fireworks launch platform. A safety zone is used to control vessel movement within a specified distance surrounding the launch platforms to ensure the safety of persons and property. Coast Guard personnel on scene could allow persons within the safety zone if conditions permit.

The Coast Guard would publish notices in the Federal Register if an event sponsor reported a change to the listed event venue or date. Coast Guard Captains of the Port would give notice of the enforcement of each safety zone by all appropriate means to provide the widest publicity among the affected segments of the public. This would include publication in the Local Notice to Mariners and Marine Information Broadcasts. Marine information and facsimile broadcasts may also be made for these events, beginning 24 to 48 hours before the event is scheduled to begin, to notify the public. Fireworks barges or launch sites on land used in the locations stated in this rulemaking would also have a sign on the port and starboard side of the barge or mounted on a post 3 foot above ground level when on land and facing the water labeled “Fireworks—Danger—Stay Away”. This would provide on scene notice that the safety zone is or will be enforced on that day. This notice will consist of a diamond shaped sign 4 foot by 4 foot with a 3-inch orange retroreflective border. The word “Danger” shall be 10 inch black block letters centered on the sign with the words “Fireworks” and “Stay Away” in 6 inch black block letters placed above and below the word “Danger” respectively on a white background. There would also be a Coast Guard patrol vessel on scene 30 minutes before the display is scheduled to start until 30 minutes after its completion to enforce the safety zone.

The enforcement period for these proposed safety zones is from 5:30 p.m. (e.s.t.) to 1 a.m. (e.s.t.). However, vessels may enter, remain in, or transit through these safety zones during this timeframe if authorized by the Captain of the Port or designated Coast Guard patrol personnel on scene, as provided for in 33 CFR 165.23.

This rule is being proposed to provide for the safety of life on navigable waters during the events and to give the marine community the opportunity to comment on the proposed zone locations, size, and length of time the zones will be active.

Discussion of Proposed Rule

The Coast Guard proposes to amend the regulations at 33 CFR 165.506 by adding the following 15 permanent safety zone locations.

Patapsco River (Middle Branch), Baltimore, MD, Safety Zone

All waters of the Patapsco River, Middle Branch, within an area bound by a line drawn from the following points: 39°15′22″ N, 076°36′36″ W; thence to 39°15′10″ N, 076°36′00″ W; thence to 39°15′40″ N, 076°35′23″ W; thence to 39°15′49″ N, 076°35′47″ W; thence to the point of origin, (Datum NAD 1983), located approximately 600 yards east of Hanover Street (SR-2) Bridge.

Susquehanna River, Havre de Grace, MD, Safety Zone

All waters of the Susquehanna River within a 150 yard radius of the fireworks barge in approximate position 39°32′42″ N, 076°04′30″ W (Datum NAD 1983), approximately 800 yards east of the waterfront at Havre de Grace, MD.

Tred Avon River, Oxford, MD, Safety Zone

All waters of the Tred Avon River within a 150 yard radius of the fireworks barge in approximate position 38°41′48″ N, 076°10′38″ W (Datum NAD 1983), approximately 500 yards northwest of the waterfront at Oxford, MD.

Delaware River, Essington, PA, Safety Zone

All waters of the Delaware River within a 300 yard radius of the fireworks barge in approximate position 39°51′18″ N, 075°18′57″ W (Datum NAD 1983), due west of Little Tinicum Island.

Chesapeake Bay, Norfolk, VA, Safety Zone

All waters of the Chesapeake Bay within a 400 yard radius of the fireworks display located in position 36°57′21″ N, 076°15′00″ W; (Datum NAD 1983), located near Ocean View Fishing Pier.

Broad Bay, Virginia Beach, VA, Safety Zone

All waters of the Broad Bay within a 400 yard radius of the fireworks display in approximate position 36°52′08″ N, 076°00′46″ W (Datum NAD 1983), located on the shoreline near the Cavalier Golf and Yacht Club, Virginia Beach, Virginia.

Chickahominy River, Williamsburg, VA, Safety Zone

All waters of the Chickahominy River within a 400 yard radius of the fireworks display in approximate position 37°14′50″ N, 076°52′17″ W (Datum NAD 1983), near Barrets Point, Virginia.

York River, Yorktown, VA, Safety Zone

All waters of the York River within a 400 yard radius of the fireworks display in approximate position 37°14′14″ N, 076°30′02″ W (Datum NAD 1983), located near Yorktown, Virginia.

James River, Newport News, VA, Safety Zone

All waters of the James River within a 325 yard radius of the fireworks barge in approximate position 36°58′30″ N, 076°26′19″ W (Datum NAD 1983), located in the vicinity of the Newport News Shipyard, Newport News, Virginia.

Chesapeake Bay, Virginia Beach, VA, Safety Zone

All waters of the Chesapeake Bay within a 400 yard radius of the fireworks display in approximate position 36°55′02″ N, 076°03′27″ W (Datum NAD 1983), located at the First Landing State Park at Virginia Beach, Virginia.

York River, West Point, VA, Safety Zone

All waters of the York River near West Point, VA within a 400 yard radius of the fireworks display located in approximate position 37°31′25″ N, 076°47′19″ W (Datum NAD 1983).

Big Foot Slough, Ocracoke, NC, Safety Zone

All waters of Big Foot Slough within a 300 yard radius of the fireworks launch site in approximate position 35°06′54″ N, 075°59′24″ W (Datum NAD 1983), approximately 100 yards west of the Silver Lake Entrance Channel at Orcacoke, NC.

Pasquotank River, Elizabeth City, NC, Safety Zone

All waters of the Pasquotank River with a 300 yard radius of the fireworks launch site in approximate position 36°18′00″ N, 076°13′00″ W (Datum NAD 1983), approximately 200 yards south of the east end of the Elizabeth City Bascule Bridges.

Currituck Sound, Corolla, NC, Safety Zone

All waters of the Croatan Sound within a 300 yard radius of the fireworks barge in approximate position 36°22′48″ N, 075°51′15″ W (Datum NAD 1983).

Middle Sound, Figure Eight Island, NC, Safety Zone

All waters of the Figure Eight Island Causeway Channel from latitude 34°16′32″ N, 077°45′32″ W, thence east along the marsh to a position located at 34°16′19″ N, 077°44′55″ W, thence south to the causeway at position 34°16′16″ N, 077°44′58″ W, thence west along the shoreline to position 34°16′29″ N, 077°45′34″ W, (Datum NAD 1983), thence back to the point of origin.

The Coast Guard proposes to amend the regulations at 33 CFR 165.506 by modifying three permanently established safety zone locations as follows.

Potomac River, Charles County, MD, Safety Zone

All waters of the Potomac River within a 300 yard radius of the fireworks barge in approximate position 38°20′36″ N, 077°14′09″ W (Datum NAD 1983), approximately 1400 yards north of the shoreline at Fairview Beach, Virginia.

Dukeharts Channel, Potomac River, MD, Safety Zone

All waters of the Potomac River within a 300 yard radius of the fireworks barge in approximate position 38°13′48″ N, 076°44′37″ W (Datum NAD 1983), located adjacent to Dukeharts Channel near Coltons Point, Maryland.

Chester River, Kent Island Narrows, MD, Safety Zone

All waters of the Chester River, within an area bound by a line drawn from the following points: 38°58′50″ N, 076°15′00″ W; thence north to 38°59′00″ N, 076°15′00″ W; thence east to 38°59′00″ N, 076°14′46″ W;, thence southeast to 38°58′50″ N, 076°14′28″ W; thence southwest to 38°58′37″ N, 076°14′36″ W, thence northwest to 38°58′42″ N, 076°14′55″ W, thence to the point of origin, (Datum NAD 1983), located approximately 900 yards north of Kent Island Narrows (US-50/301) Bridge.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary.

This finding is based on the short amount of time that vessels would be restricted from the zones, and the small zone sizes positioned in low vessel traffic areas. Vessels would not be precluded from getting underway, or mooring at any piers or marinas currently located in the vicinity of the proposed safety zones. Advance notifications would also be made to the local maritime community by issuing Local Notice to Mariners. Marine information and facsimile broadcasts may also be made to notify the public. Additionally, the Coast Guard anticipates that these safety zones will only be enforced 2 to 3 times per year.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule will affect the following entities some of which may be small entities: The owners and operators of vessels intending to transit or anchor in the proposed safety zones during the times these zones are enforced.

These proposed safety zones will not have a significant economic impact on a substantial number of small entities for the following reasons: The enforcement period will be short in duration and in many of the zones vessels can transit safely around the safety zones. Generally, blanket permission to enter, remain in, or transit through these safety zones will be given except during the period that the Coast Guard patrol vessel is present. Before the enforcement period, we will issue maritime advisories widely.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact 1-888-REG-FAIR (1-888-734-3247). The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD and Department of Homeland Security Management Directive 5100.1, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. This rule fits the category selected from paragraph (34)(g), as it would establish 49 safety zones.

A draft “Environmental Analysis Check List” and a draft “Categorical Exclusion Determination” are available in the docket where indicated under ADDRESSES. Comments on this section will be considered before we make the final decision on whether the rule should be categorically excluded from further environmental review.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

2. Revise § 165.506 to read as follows:

§ 165.506 Safety Zones; Fifth Coast Guard District Fireworks Displays.

(a) Locations. (1) Patuxent River, Solomons Island, MD, Safety Zone. All waters of Patuxent River within a 300 yard radius of the fireworks barge in an area bound by the following points: 38°19′42″ N, 076°28′02″ W; thence to 38°19′26″ N, 076°28′18″ W; thence to 38°18′48″ N, 076°27′42″ W; thence to 38°19′06″ N 076°27′25″ W; (Datum NAD 1983), thence to the point of origin, located near Solomons Island, MD.

(2) Middle River, Baltimore County, MD, Safety Zone. All waters of the Middle River within a 300 yard radius of the fireworks barge in approximate position 39°17′45″ N, 076°23′49″ W (Datum NAD 1983), approximately 300 yards east of Rockaway Beach, near Turkey Point.

(3) Northeast River, North East, MD, Safety Zone. All waters of the Northeast River within a 300 yard radius of the fireworks barge in approximate position 39°35′26″ N, 075°57′00″ W (Datum NAD 1983), approximately 400 yards south of North East Community Park.

(4) Upper Potomac River, Alexandria, VA, Safety Zone. All waters of the Upper Potomac River within a 300 yard radius of the fireworks barge in approximate position 38°48′37″ N, 077°02′02″ W (Datum NAD 1983), located near the waterfront of Alexandria, Virginia.

(5) Potomac River, Prince William County, VA, Safety Zone. All waters of the Potomac River within a 200 yard radius of the fireworks barge in approximate position 38°34′08″ N, 077°15′34″ W (Datum NAD 1983), located near Cherry Hill, Virginia.

(6) Potomac River, Charles County, MD, Safety Zone. All waters of the Potomac River within a 300 yard radius of the fireworks barge in approximate position 38°20′36″ N, 077°14′09″ W (Datum NAD 1983), approximately 1400 yards north of the shoreline at Fairview Beach, Virginia.

(7) Baltimore Inner Harbor, Patapsco River, MD, Safety Zone. All waters of the Patapsco River within a 150 yard radius of the fireworks barge in approximate position 39°16′55″ N, 076°36′17″ W (Datum NAD 1983), located at the entrance to Baltimore Inner Harbor, approximately 150 yards southwest of pier 6.

(8) Northwest Harbor (Western Section) Patapsco River, MD, Safety Zone. All waters of the Patapsco River within a 250 yard radius of the fireworks barge in approximate position 39°16′37″ N, 076°35′54″ W (Datum NAD 1983), located near the western end of Northwest Harbor.

(9) Northwest Harbor (East Channel), Patapsco River, MD, Safety Zone. All waters of the Patapsco River within a 300 yard radius of the fireworks barge in approximate position 39°15′55″ N, 076°34′35″ W (Datum NAD 1983), located adjacent to the East Channel of Northwest Harbor.

(10) Patapsco River (Middle Branch), Baltimore, MD, Safety Zone. All waters of the Patapsco River, Middle Branch, within an area bound by a line drawn from the following points: 39°15′22″ N, 076°36′36″ W; thence to 39°15′10″ N, 076°36′00″ W; thence to 39°15′40″ N, 076°35′23″ W; thence to 39°15′49″ N, 076°35′47″ W; thence to the point of origin, (Datum NAD 1983), located approximately 600 yards east of Hanover Street (SR-2) Bridge.

(11) Washington Channel, Upper Potomac River, Washington, DC, Safety Zone. All waters of the Upper Potomac River within a 150 yard radius of the fireworks barge in approximate position 38°52′09″ N, 077°01′13″ W (Datum NAD 1983), located within the Washington Channel in Washington Harbor, DC.

(12) Dukeharts Channel, Potomac River, MD, Safety Zone. All waters of the Potomac River within a 300 yard radius of the fireworks barge in approximate position 38°13′48″ N, 076°44′37″ W (Datum NAD 1983), located adjacent to Dukeharts Channel near Coltons Point, Maryland.

(13) Severn River and Spa Creek, Annapolis, MD, Safety Zone. All waters of the Severn River and Spa Creek within an area bounded by a line drawn from 38°58′39.6″ N, 076°28′49″ W; thence to 38°58′41″ N, 076°28′14″ W; thence to 38°59′01″ N, 076°28′37″ W; thence to 38°58′57″ N, 076°28′40″ W (Datum NAD 1983), located near the entrance to Spa Creek in Annapolis, Maryland.

(14) Miles River, St. Michaels, MD, Safety Zone. All waters of the Miles River within a 200 yard radius of the fireworks barge in approximate position 38°47′42″ N, 076°12′23″ W (Datum NAD 1983), located near the waterfront of St. Michaels, Maryland.

(15) Susquehanna River, Havre de Grace, MD, Safety Zone. All waters of the Susquehanna River within a 150 yard radius of the fireworks barge in approximate position 39°32′42″ N, 076°04′30″ W (Datum NAD 1983), approximately 800 yards east of the waterfront at Havre de Grace, MD.

(16) Chesapeake Bay, Chesapeake Beach, MD, Safety Zone. All waters of the Chesapeake Bay within a 150 yard radius of the fireworks barge in approximate position 38°41′33″ N, 076°31′48″ W (Datum NAD 1983), located near Chesapeake Beach, Maryland.

(17) Tred Avon River, Oxford, MD, Safety Zone. All waters of the Tred Avon River within a 150 yard radius of the fireworks barge in approximate position 38°41′48″ N, 076°10′38″ W (Datum NAD 1983), approximately 500 yards northwest of the waterfront at Oxford, MD.

(18) Choptank River, Cambridge, MD, Safety Zone. All waters of the Choptank River within a 300 yard radius of the fireworks launch site at Great Marsh Point, located at 38°35′06″ N, 076°04′46″ W (Datum NAD 1983).

(19) Chester River, Kent Island Narrows, MD, Safety Zone. All waters of the Chester River, within an area bound by a line drawn from the following points: 38°58′50″ N, 076°15′00″ W; thence north to 38°59′00″ N, 076°15′00″ W; thence east to 38°59′00″ N, 076°14′46″ W;, thence southeast to 38°58′50″ N, 076°14′28″ W; thence southwest to 38°58′37″ N, 076°14′36″ W, thence northwest to 38°58′42″ N, 076°14′55″ W, thence to the point of origin, (Datum NAD 1983), located approximately 900 yards north of Kent Island Narrows (US-50/301) Bridge.

(20) Atlantic Ocean, Ocean City, MD, Safety Zone. All waters of the Atlantic Ocean in an area bound by the following points: 38°19′39.9″ N, 075°05′03.2″ W; thence to 38°19′36.7″ N, 075°04′53.5″ W; thence to 38°19′45.6″ N, 075°04′49.3″ W; thence to 38°19′49.1″ N, 075°05′00.5″ W; (Datum NAD 1983), thence to point of origin. The size of the proposed zone extends approximately 300 yards offshore from the fireworks launch area located at the High Water mark on the beach.

(21) Isle of Wight Bay, Ocean City, MD, Safety Zone. All waters of Isle of Wight Bay within a 350 yard radius of the fireworks barge in approximate position 38°22′32″ N, 075°04′30″ W (Datum NAD 1983).

(22) Assawoman Bay, Fenwick Island—Ocean City, MD, Safety Zone. All waters of Assawoman Bay within a 360 yard radius of the fireworks launch location on the pier at the West end of Northside Park, in approximate position 38°25′57.6″ N, 075°03′55.8″ W (Datum NAD 1983).

(23) Atlantic Ocean, Rehoboth Beach, DE, Safety Zone. All waters of the Atlantic Ocean within a 360 yard radius of the fireworks barge in approximate position 38°43′01.2″ N, 075°04′21″ W (Datum NAD 1983), approximately 400 yards east of Rehoboth Beach, DE.

(24) Indian River Bay, DE, Safety Zone. All waters of the Indian River Bay within a 360 yard radius of the fireworks launch location on the pier in approximate position 38°36′42″ N, 075°08′18″ W (Datum NAD 1983), about 700 yards east of Pots Net Point, DE.

(25) Little Egg Harbor, Parker Island, NJ, Safety Zone. All waters of Little Egg Harbor within a 500 yard radius of the fireworks barge in approximate position 39°34′18″ N, 074°14′43″ W (Datum NAD 1983), approximately 100 yards north of Parkers Island.

(26) Barnegat Bay, Ocean Township, NJ, Safety Zone. All waters of Barnegat Bay within a 500 yard radius of the fireworks barge in approximate position 39°47′33″ N, 074°10′46″ W (Datum NAD 1983).

(27) Delaware Bay, North Cape May, NJ, Safety Zone. All waters of the Delaware Bay within a 500 yard radius of the fireworks barge in approximate position 38°58′00″ N, 074°58′30″ W (Datum NAD 1983).

(28) Delaware River, Essington, PA, Safety Zone. All waters of the Delaware River within a 300 yard radius of the fireworks barge in approximate position 39°51′18″ N, 075°18′57″ W (Datum NAD 1983), due west of Little Tinicum Island.

(29) Delaware River, Philadelphia, PA, Safety Zone. All waters of Delaware River, adjacent to Penns Landing, Philadelphia, PA, bounded from shoreline to shoreline, bounded on the south by a line running east to west from points along the shoreline at 39°56′31.2″ N, 075°08′28.1″ W; thence to 39°56′29.1″ N, 075°07′56.5″ W, and bounded on the north by the Benjamin Franklin Bridge, (Datum NAD 1983).

(30) Chesapeake Bay, Norfolk, VA, Safety Zone. All waters of the Chesapeake Bay within a 400 yard radius of the fireworks display located in position 36°57′21″ N, 076°15′00″ W (Datum NAD 1983), located near Ocean View Fishing Pier.

(31) Broad Bay, Virginia Beach, VA, Safety Zone. All waters of the Broad Bay within a 400 yard radius of the fireworks display in approximate position 36°52′08″ N, 076°00′46″ W (Datum NAD 1983), located on the shoreline near the Cavalier Golf and Yacht Club, Virginia Beach, Virginia.

(32) Chickahominy River, Williamsburg, VA, Safety Zone. All waters of the Chickahominy River within a 400 yard radius of the fireworks display in approximate position 37°14′50″ N, 076°52′17″ W (Datum NAD 1983), near Barrets Point, Virginia.

(33) York River, Yorktown, VA, Safety Zone. All waters of the York River within a 400 yard radius of the fireworks display in approximate position 37°14′14″ N, 076°30′02″ W (Datum NAD 1983), located near Yorktown, Virginia.

(34) James River, Newport News, VA, Safety Zone. All waters of the James River within a 325 yard radius of the fireworks barge in approximate position 36°58′30″ N, 076°26′19″ W (Datum NAD 1983), located in the vicinity of the Newport News Shipyard, Newport News, Virginia.

(35) Chesapeake Bay, Virginia Beach, VA, Safety Zone. All waters of the Chesapeake Bay 400 yard radius of the fireworks display in approximate position 36°55′02″ N, 076°03′27″ W (Datum NAD 1983), located at the First Landing State Park at Virginia Beach, Virginia.

(36) York River, West Point, VA, Safety Zone. All waters of the York River near West Point, VA within a 400 yard radius of the fireworks display located in approximate position 37°31′25″ N/076°7′19″ W (Datum NAD 1983).

(37) Chincoteague Channel, Chincoteague, VA, Safety Zone. All waters of the Chincoteague Channel within a 360 yard radius of the fireworks launch location at the Chincoteague carnival waterfront in approximate position 37°55′40.3″ N, 075°23′10.7″ W (Datum NAD 1983), approximately 900 yards southwest of Chincoteague Swing Bridge.

(38) Atlantic Ocean, Virginia Beach, VA, Safety Zone. All waters of the Atlantic Ocean enclosed within a 360 yard radius of the center located on the beach at approximate position 36°51′34.8″ N, 075°58′30″ W (Datum NAD 1983).

(39) Elizabeth River, Southern Branch, Norfolk, VA, Safety Zone. All waters of Elizabeth River Southern Branch in an area bound by the following points: 36°50′54.8″ N, 076°18′10.7″ W; thence to 36°51′7.9″ N, 076°18′01″ W; thence to 36°50′45.6″ N, 076°17′44.2″ W; thence to 36°50′29.6″ N, 076°17′23.2″ W; thence to 36°50′7.7″ N, 076°17′32.3″ W; thence to 36°49′58″ N, 076°17′28.6″ W; thence to 36°49′52.6″ N, 076°17′43.8″ W; thence to 36°50′27.2″ N, 076°17′45.3″ W; thence to the point of origin, (Datum NAD 1983).

(40) Morehead City Harbor Channel, NC, Safety Zone. All waters of Morehead City Harbor Channel that fall within a 360 yard radius of latitude 34°43′01″ N, 076°42′59.6″ W, a position located at the west end of Sugar Loaf Island, NC.

(41) Cape Fear River, Wilmington, NC, Safety Zone. All waters of the Cape Fear River within an area bound by a line drawn from the following points: 34°14′12″ N, 077°57′07.2″ W; thence to 34°14′12″ N, 077°57′06″ W; thence to 34°13′54″ N, 077°57′00″ W;, thence to 34°13′54″ N, 077°57′06″ W; thence to the point of origin, (Datum NAD 1983), located 500 yards north of Cape Fear Memorial Bridge.

(42) Cape Fear River, Southport, NC, Safety Zone. All waters of the Cape Fear River within a 600 yard radius of the fireworks barge in approximate position 33°54′40″ N, 078°01′18″ W (Datum NAD 1983), approximately 700 yards south of the waterfront at Southport, NC.

(43) Big Foot Slough, Ocracoke, NC, Safety Zone. All waters of Big Foot Slough within a 300 yard radius of the fireworks launch site in approximate position 35°06′54″ N, 075°59′24″ W (Datum NAD 1983), approximately 100 yards west of the Silver Lake Entrance Channel at Orcacoke, NC.

(44) Green Creek and Smith Creek, Oriental, NC, Safety Zone. All waters of Green Creek and Smith Creek that fall within a 300 yard radius of the fireworks launch site at 35°01′29.6″ N, 076°42′10.4″ W (Datum NAD 1983), located near the entrance to the Neuse River in the vicinity of Oriental, NC.

(45) Pasquotank River, Elizabeth City, NC, Safety Zone. All waters of the Pasquotank River with a 300 yard radius of the fireworks launch site in approximate position 36°18′00″ N, 076°13′00″ W (Datum NAD 1983), approximately 200 yards south of the east end of the Elizabeth City Bascule Bridges.

(46) Currituck Sound, Corolla, NC, Safety Zone. All waters of the Croatan Sound with a 300 yard radius of the fireworks barge in approximate position 36°22′48″ N, 075°51′15″ W (Datum NAD 1983).

(47) Middle Sound, Figure Eight Island, NC, Safety Zone. All waters of the Figure Eight Island Causeway Channel from latitude 34°16″32″ N, 077°45′32″ W, thence east along the marsh to a position located at 34°16′19″ N, 077°44′55″ W, thence south to the causeway at position 34°16′16″ N, 077°44′58″ W, thence west along the shoreline to position 34°16′29″ N, 077°45′34″ W (Datum NAD 1983), thence back to the point of origin.

(48) Pamlico River, Washington, NC, Safety Zone. All waters of the Pamlico River that fall within a 300 yard radius of the fireworks launch site at 35°32′19″ N, 077°3′20.5″ W (Datum NAD 1983), located 500 yards north of Washington railroad trestle bridge.

(49) Neuse River, New Bern, NC, Safety Zone. All waters of the Neuse River within a 360 yard radius of the fireworks barge in approximate position 35°06′07.1″ N, 077°01′35.8″ W (Datum NAD 1983); located 420 yards north of the New Bern, Twin Span, high rise bridge.

(b) Notification. (1) Fireworks barges and launch sites on land in paragraph (a) of this section will have a sign on the port and starboard side of the barge or mounted on a post 3 foot above ground level when on land and facing the water labeled “Fireworks—Danger—Stay Away”. This will provide on scene notice that the safety zone will be enforced on that day. This notice will consist of a diamond shaped sign 4 foot by 4 foot with a 3-inch orange retro reflective border. The word “Danger” shall be 10 inch black block letters centered on the sign with the words “Fireworks” and “Stay Away” in 6 inch black block letters placed above and below the word “Danger” respectively on a white background.

(2) Coast Guard Captains of the Port in the Fifth Coast Guard District will notify the public of the enforcement of these safety zones by all appropriate means to effect the widest publicity among the affected segments of the public. Publication in the local notice to mariners, marine information broadcasts, and facsimile broadcasts may be made for these events, beginning 24 to 48 hours before the event is scheduled to begin, to notify the public.

(c) Enforcement Period. The safety zones in paragraph (a) of this section will be enforced from 5:30 p.m. to 1 a.m. each day a barge with a “Fireworks—Danger—Stay Away” sign on the port and starboard side is on-scene or a “Fireworks—Danger—Stay Away” sign is posted on land, in a location listed in paragraph (a) of this section. Vessels may not enter, remain in, or transit through the safety zones during these enforcement periods unless authorized by the Captain of the Port or designated Coast Guard patrol personnel on scene.

(d) Regulations. (1) The general regulations contained in 33 CFR 165.23 apply.

(2) All persons and vessels shall comply with the instructions of the Coast Guard Captain of the Port or the designated on-scene-patrol personnel. Those personnel are compromised of commissioned, warrant, and petty officers of the Coast Guard. Other Federal, State and local agencies may assist these personnel in the enforcement of the safety zone. Upon being hailed by the U.S. Coast Guard vessel by siren, radio, flashing light or other means, the operator of a vessel shall proceed as directed.

Dated: October 18, 2006.
Larry L. Hereth,
Rear Admiral, U.S. Coast Guard, Commander, Fifth Coast Guard District.

[FR Doc. E6-18516 Filed 11-2-06; 8:45 am]

BILLING CODE 4910-15-P